DEPARTMENT OF LABOR

Occupational Safety and Health Administration

29 CFR Part 1910

[Docket No. OSHA-2020-0004]

RIN 1218-AD36

Occupational Exposure to COVID-19; Emergency Temporary Standard

AGENCY: Occupational Safety and Health Administration (OSHA), Department of Labor.

ACTION: Interim final rule; correction.

SUMMARY: OSHA is fixing minor errors in the interim final rule published on June 21, 2021, titled Occupational Exposure to COVID-19; Emergency Temporary Standard, including correcting the docket number for submission of comments related to OSHA's information collection estimates under the Paperwork Reduction Act.

DATES: Effective July 14, 2021.

FOR FURTHER INFORMATION CONTACT:

Press inquiries: Frank Meilinger, Director, OSHA Office of Communications; telephone: (202) 693-1999; email: meilinger.francis2@dol.gov.

For technical inquiries: Maureen Ruskin, OSHA Directorate of Standards and Guidance; telephone: (202) 693-1955; email: ruskin.maureen@dol.gov.

SUPPLEMENTARY INFORMATION:

I. Summary and Explanation

On June 21, 2021, OSHA published an interim final rule establishing an emergency temporary standard (ETS) to protect healthcare and healthcare support service workers from occupational exposure to COVID-19 in settings where people with COVID-19 are reasonably expected to be present (86 FR 32376). In the Dates section of the preamble, the agency inadvertently included an incorrect docket number for submitting comments related to the information collection estimates under the Paperwork Reduction Act. The agency is submitting this document to correct this error.

In addition, in Section VI.B Economic Feasibility, several table references were incorrect or missing, some tables were incorrectly numbered, and one subsection heading was labeled incorrectly. Those changes are shown in the table below, titled “Table of Non-substantive Corrections.”

II. Exemption From Notice-and-Comment Procedures

OSHA has determined that these corrections are not subject to the procedures for public notice and comment specified in the Administrative Procedure Act (5 U.S.C. 553) or Section 6(b) of the Occupational Safety and Health Act of 1970 (29 U.S.C. 655(b)). This rulemaking only corrects minor errors in the published rule and does not affect or change any existing rights or obligations. No stakeholder is likely to object to these corrections. Therefore, the agency finds good cause that public notice and comment are unnecessary under 5 U.S.C. 553(b)(3)(B), 29 U.S.C. 655(b), and 29 CFR 1911.5.

III. Correction of Publication

In FR Doc. 2021-12428 appearing in the Federal Register of June 21, 2021 (86 FR 32376), make the following corrections in the Dates section of the preamble.

On page 32376, in the second column, the second full paragraph is corrected to read as follows:

Comments due: Written comments, including comments on any aspect of this ETS and whether this ETS should become a final rule, must be submitted by July 21, 2021 in Docket No. OSHA-2020-0004. Comments on the information collection determination described in Section VII.K of the preamble (OMB Review under the Paperwork Reduction Act of 1995) may be submitted by August 20, 2021 in Docket Number OSHA-2021-0003.

In addition, the agency provides the following table, which contains a list of corrections of minor, non-substantive errors into section VI.B. These changes are to five table references within the text, six table numbers, and one subsection heading.

Table of Non-Substantive Corrections
Page No. | Original text | Corrected text
Page 32519 | below shows the entities and employees | Table VI.B.36 below shows the entities and employees.
Page 32537 | Table VI.B.4142 | Table VI.B.41.
Page 32539 | Table VI.B.4344 | Table VI.B.43.
Page 32540 | Table VI.B.01 | Table VI.B.44.
Page 32541 | Table VI.B.12 | Table VI.B.45.
Page 32542 | Table VI.B.2 | Table VI.B.46.
Page 32544 | (raw data from Table VI.B.4546, Row K) | (raw data from Table VI.B.45, Row K).
Page 32544 | (Table VI.B.4546, Row M) | (Table VI.B.45, Row M).
Page 32544 | summarized in Row L of in Need for Specific Provisions | summarized in Row L of Table VI.B.44. In Need for Specific Provisions.
Page 32544 | (see Table VI.B.4142 | (see Table VI.B.41.
Page 32546 | d. Low-Case Sensitivity Analysis | Low-Case Sensitivity Analysis.
Page 32548 | Error! Reference source not found | Table VI.B.A.1.

List of Subjects for 29 CFR part 1910

COVID-19, Disease, Health facilities, Health, Healthcare, Incorporation by reference, Occupational health and safety, Public health, Quarantine, Reporting and recordkeeping requirements, Respirators, SARS-CoV- 2, Telework, Vaccines, Viruses.

Authority and Signature

James S. Frederick, Acting Assistant Secretary of Labor for Occupational Safety and Health, U.S. Department of Labor, 200 Constitution Avenue NW, Washington, DC 20210, authorized the preparation of this document pursuant to the following authorities: Sections 4, 6, and 8 of the Occupational Safety and Health Act of 1970 (29 U.S.C. 653, 655, 657); Secretary of Labor's Order 8-2020 (85 FR 58393 (Sept. 18, 2020)); 29 CFR part 1911; and 5 U.S.C. 553.

James S. Frederick,
Acting Assistant Secretary of Labor for Occupational Safety and Health.

[FR Doc. 2021-14326 Filed 7-13-21; 8:45 am]

BILLING CODE 4510-26-P